DEPARTMENT OF THE INTERIOR

Fish and Wildlife Service

Notice of Intent To Prepare a Comprehensive Conservation Plan and Associated Environmental Impact Statement for Hanford Reach National Monument/Saddle Mountain National Wildlife Refuge

AGENCY: Fish and Wildlife Service, Interior.

ACTION: Notice of intent to prepare a Comprehensive Conservation Plan and Associated Environmental Impact Statement for the Hanford Reach National Monument/Saddle Mountain National Wildlife Refuge.

SUMMARY: This notice advises the public that the U.S. Fish and Wildlife Service (Service), in cooperation with the Department of Energy (DOE) and other cooperating agencies, is preparing a Comprehensive Conservation Plan (CCP) and an Environmental Impact Statement (EIS) for the Hanford Reach National Monument/Saddle Mountain National Wildlife Refuge in Benton, Franklin, Adams, and Grant counties, Washington. The Service is furnishing this notice in compliance with the Service's National Wildlife Refuge planning policy and the National Environmental Policy Act of 1969, as amended (NEPA), and implementing regulations for the following purposes: (1) To advise other agencies, Tribal governments, and the public of our intentions; (2) To obtain comments and information on the issues and alternatives to be addressed in the CCP and EIS; and (3) to describe additional opportunities for public comment during the scoping phase for the CCP and EIS.

DATES: Public comments are requested within 90 days of the date of publication in the Federal Register.

ADDRESSES: Address comments and requests for more information to: Greg Hughes, Project Leader, Hanford Reach National Monument, 3250 Port of Benton Blvd., Richland, Washington 99352, Fax (509) 375-0196.

FOR FURTHER INFORMATION CONTACT: Greg Hughes, Project Leader, at (509) 371-1801, Fax (509) 375-0196. Documents referenced herein can be viewed during business hours (7:30 a.m. to 4:30 p.m.) at the address above or at the DOE Public Reading Room located in the Washington State University Tri-Cities Library at 2770 University Drive, Richland, Washington 99352.

SUPPLEMENTARY INFORMATION: The Hanford Reach National Monument (Monument) was designated by Presidential Proclamation 7319 on June 9, 2000. The Monument encompasses approximately 195,000 acres, of which approximately 166,000 acres are currently managed by the U.S. Fish and Wildlife Service (Service) as the Saddle Mountain National Wildlife Refuge under its authority pursuant to the National Wildlife Refuge System Administration Act, as amended (16 U.S.C. 668dd-ee), and through agreements with the DOE. The entire Monument is superimposed over a portion of the 375,040-acre DOE Hanford Site, in Richland, Washington. The Washington State Department of Fish and Wildlife (WDFW) administers 800 acres of the Monument through a permit with the DOE. The DOE administers the remaining acreage and currently retains primary ownership or control on all acreage. The Service-managed acreage within the Monument area is part of the National Wildlife Refuge System under permits and agreements with the DOE. By Federal law, all lands within the National Wildlife Refuge System are to be managed in a manner consistent with an approved CCP. The Service is the lead agency for planning and management of the Monument and development of the CCP. Service planning for Monument lands is subject to review and approval by the DOE.

Management Units

The Monument is divided into six administrative units, briefly described below. Of the total 195,000 acres within the Monument, 60,000 acres and 45 miles of the Columbia River are currently open to the public.

Wahluke Unit (Saddle Mountain National Wildlife Refuge)

Located on the east side of the Columbia River, the Wahluke Unit extends from the river north to the Saddle Mountains, encompassing 57,000 acres of riparian and shrub-steppe habitats. Numerous species of native plants are found here, including rare plants such as White Bluffs bladderpod, Geyer's milkvetch, and desert dodder. Near the center of the Wahluke Unit is Wahluke Lake (also known as the WB-10 ponds), formed by water returning to the river from nearby irrigated lands. One of the most scenic parts of the unit is the White Bluffs which form the eastern bank of the Columbia River, for about 20 miles, north of the city of Richland, Washington, near the shared border of Grant and Franklin counties. The Wahluke Unit also includes the White Bluffs Landing, an historic river crossing for local Tribes, and site of the first store and ferry in the Mid-Columbia region. Administered by the Service, the Wahluke Unit is open to the public from two hours before sunrise to two hours after sunset, year round. Current recreational uses include hunting, fishing, hiking, wildlife observation, and photography.

Fitzner/Eberhardt Arid Lands Ecology Reserve Unit (Saddle Mountain National Wildlife Refuge)

This 77,000-acre unit on the southwest side of the Columbia River, is located southwest of State Highway 240 between State Highways 24 and 225, encompassing Rattlesnake Mountain. Rattlesnake Mountain, at 3,600 feet, is the highest landmark in the area and has religious significance for several local Tribes. This unit, as well as the other Monument Units, originally served as a buffer zone for DOE's Hanford Site operations. In 1967, it was set aside by the U.S. Atomic Energy Commission to preserve native shrub-steppe vegetation. The unit has been protected as a National Environmental Research Park since the 1970s. This area contains one of the largest remnants of native shrub-steppe vegetation in Washington. A major wildfire in 2000 devastated native plants, especially sagebrush. The unit is home to a large herd of Rocky Mountain elk. The DOE retains administration of the Rattlesnake Ridge and associated access road, while the Service manages the remainder of this area. Public use in this unit is currently limited to approved environmental education and research activities.

Saddle Mountain Unit (Saddle Mountain National Wildlife Refuge)

Dense stands of sagebrush thrive on the 32,000-acre Saddle Mountain Unit. Located in Grant County, north of the Columbia River, along Highway 24, this unit serves as a wildlife preserve, providing home to many protected bird species, including orioles, kingbirds, warblers, and Brewer's blackbirds. Managed by the Service, since 1971, public use in this unit is currently limited to approved environmental education and research activities.

McGee Ranch/Riverlands Unit

This unit is located on the south side of the Columbia River which forms its northern boundary, and is bordered on the east and south by State Highway 24 to Cold Creek where the western boundary stair-steps north back to the Columbia River. This unit encompasses 9,000 acres. It includes a former pioneer ranch area and rare plants, such as Umtanum buckwheat; which exists nowhere else in the world; Hoover's desert parsley, and Kittitas larkspur. The unit provides a corridor of protected land for wildlife between the Arid Lands Ecology Reserve Unit and the U.S. Army's Yakima Training Center. This unit is managed by the DOE. Public use is allowed in the area between the Midway Road and the Columbia River only.

Vernita Bridge Unit

The WDFW administers approximately 800 acres of the Monument, located along the Columbia River northwest of the Vernita bridge under a DOE permit that predates the Monument designation. The entire unit is open to day use, year round. The primary public use is fishing access.

River Corridor Unit

This unit includes 25,000 acres on the south and west banks of the Columbia River, the Columbia River Islands, and Hanford Dune Field. Sixteen islands exist in this unit, providing habitat for waterfowl, shorebirds, small mammals, and mule deer. Columbia yellowcress, a rare species, grows in the gravelly river shore. The River Corridor Unit is managed by the DOE except for the surface waters of the Columbia River. While access to Hanford Reach surface waters is open year round, the southwest river shore from Vernita Bridge to River Mile 343, and all islands between the Vernita Bridge and the Bonneville Power transmission line crossing at River Mile 351 are closed to public access.

Purposes of the Monument

The purpose for establishment of the Monument is defined in Presidential Proclamation 7319 (2000). The Monument was established to conserve a unique and biologically diverse landscape, encompassing an array of scientific and historic objects. The six units described above functioned historically as protective buffer zones surrounding the Hanford Site. They encompass some of the most pristine shrub-steppe habitat in the Columbia Basin. In addition to the sagebrush/grassland communities, a host of forbes, grasses, wetland and riparian plants and fragile microbiotic soil crusts have been preserved. Several sensitive species and rare plants such as the White Bluffs bladderpod and Umtanum desert buckwheat exist in the Monument. The Monument provides habitat for a wide variety of wildlife, including mule deer, elk, beaver, coyote, waterfowl and upland birds, and raptors as well as migratory and non-migratory fish. In addition to species that reside on the Monument year round, migrating salmon, birds, and hundreds of other native plant and animal species rely on the Monument's natural ecosystem. In addition to its natural and historic resources, the area contains one of the most extensive, intact, American Indian occupation and traditional use areas in the region. The diversity, density, and preservation of these sites is unparalleled in the Pacific Northwest. The Monument also contains historic structures and other remains from more recent human activities, including homesteads from small towns established along the riverbanks in the early 20th century.

Recent Land Use and Resource Planning at the Hanford Site

In 1999, the DOE prepared a 50-year Comprehensive Land Use Plan (CLUP) and EIS, for the Hanford Site. The associated Record of Decision (ROD) designated a preservation land use for the six units described above. The ROD also designated these units to be managed as part of the National Wildlife Refuge System by the U.S. Fish and Wildlife Service.

In accordance with the CLUP, the Service, as a Cooperating Agency, signed its own ROD (November, 1999) that expanded the Saddle Mountain National Wildlife Refuge to include the Wahluke Slope. The ROD also documented the Service's formal adoption of the National Park Service's Hanford Reach Comprehensive River Conservation Study and Final EIS (June, 1994), and DOE's Final Hanford Comprehensive Land-Use Plan and EIS.

The conclusions of previous planning and NEPA documents will be fully considered in the Monument CCP, to the extent that they are consistent with Proclamation 7319. Conflicts will be resolved in accordance with direction of the Proclamation, which provides the overruling purpose of the lands, subject to valid existing rights. As stated in the Proclamation; “Nothing in this proclamation shall be deemed to revoke any existing withdrawal, reservation, or appropriation; however, the national Monument shall be the dominant reservation.” Additional existing plans, agreements, legal designations, and agency jurisdictions include:

1. DOE Biological Resources Management Plan; 2001;

2. DOE Hanford Cultural Resources Protection Plan; Draft, 2002;

3. National Park Service (NPS) Hanford Reach Comprehensive River Conservation Study and Environmental Impact Statement; June, 1996;

4. Public Law 100-605 (November, 1988); the Hanford Reach Study Act, as amended by Public Law 103-333, Section 404; Hanford Reach Preservation;

5. USFWS Fitzner-Eberhardt Arid Lands Ecology Reserve Preliminary Draft CCP; initiated in 1999 under management agreement with the DOE. When the Monument was designated, this planning effort stopped;

6. WDFW Rattlesnake Hills (Hanford) Elk Strategic Management Plan; February, 2000;

7. Hanford Reach Fire Management Plan and Environmental Assessment; July, 2000;

8. Hanford Reach Protection and Management Program Interim Action Plan; April, 1999;

Other plans will be referenced/considered as the Service proceeds with scoping and detailed planning.

Preliminary Issues, Concerns and Opportunities

The Hanford Reach Federal Advisory Committee (described under separate heading) has held five meetings to organize and become familiar with the Monument and management planning parameters. The committee has identified the following preliminary planning issues as follows:

1. Public Use and Access—What kinds of recreation opportunities should be provided? Is existing access to the lands and waters adequate and appropriate?

2. Resource Protection—How can the biologic, historic, cultural, geologic and paleontologic resources be protected while providing for invasive species control, fire management, vegetation restoration, and public use activities?

3. Valid Existing Rights/Existing Activities—How can existing activities such as power transmission lines, irrigation water canals, and transportation corridors be managed for compatibility with proper care for the Monument's natural and cultural resources?

4. White Bluffs Slumping—To what degree can the adverse natural and cultural impacts from White Bluffs slumping be mitigated?

In this EIS, the Service will describe and evaluate a range of reasonable alternatives, including a No Action alternative and several proposed alternatives, and the anticipated impacts of each.

Overview of Planning Process

By Federal law, all lands within the National Wildlife Refuge System (System) are to be managed in accordance with an approved CCP (16 U.S.C. 668dd-668ee). A CCP must describe the desired future conditions of the refuge and provide long-range guidance and management direction to accomplish the purposes of the refuge, contribute to the mission of the System, and meet other relevant mandates. Additional goals of the CCP process include: (1) Conducting refuge planning in accordance with an ecosystem approach; (2) providing a forum for the public to comment on the type, extent, and compatibility of wildlife-dependent and other uses within the refuge area; (3) ensuring public involvement in refuge management decisions by providing a process for effective coordination, interaction, and cooperation with affected parties; (4) utilizing the best available science and sound professional judgement; and (5) ensuring that the six priority uses (hunting, fishing, wildlife observation, wildlife photography, environmental education, and interpretation) receive priority consideration during CCP preparation. Some of the topics to be addressed in the CCP include: Wildlife and habitat management, habitat restoration, and public use.

During development of the CCP, we will comply with the provisions of NEPA through concurrent preparation of an Environmental Impact Statement (EIS) that will accompany the CCP. The draft EIS will contain a No Action alternative, a proposed action alternative, and potentially other alternatives. The alternatives will be used to define management options and compare their effects. The potential environmental impacts of each alternative will be analyzed in the draft EIS. Following completion of the final CCP/EIS document, and the finalization of the ROD, the product of the planning process will be a stand-alone CCP, separate from the EIS.

As part of the CCP process, written compatibility determinations will be prepared for all uses of the Monument. Uses to be considered will include all recreational uses (including Monument facilities associated with a recreational use or other general public use), Monument management economic activities, and other uses of the Monument by the public or other agencies. The Service will determine that a proposed or existing wildlife-dependent use or any other use of the Monument is compatible if the use will not materially interfere with or detract from the fulfillment of the mission of the System or the purpose of the Monument. Incompatible uses will not be permitted to occur on the Monument.

Review of the CCP and EIS will be conducted in accordance with the requirements of the National Wildlife Refuge Administration Act, as amended (16 U.S.C. 668dd-668ee), NEPA (42 U.S.C. 4321 et seq.), Federal regulations for implementing NEPA (40 CFR 1500-1508), other appropriate Federal laws and regulations, and Service policies and procedures for compliance with those regulations.

The Monument CCP/EIS will provide guidance and management direction for the Service for the next 15 years. Our CCP planning process can be reviewed by visiting our website at http://pacific.fws.gov/planning/. We will use this website to provide pertinent information about the Monument and to keep the public informed about the status of the CCP/EIS.

Agency and Public Involvement

The Monument is located in a highly complex planning environment associated with a nuclear superfund site, Bonneville Power Administration transmission grid, Bureau of Reclamation Columbia Basin Irrigation project and associated infrastructure, the Energy Northwest Nuclear Power Generating Station, nationally significant natural, historic, and cultural resources, Tribal trust responsibilities, and diverse public interest groups. The wide-range of potential issues to consider in the CCP/EIS will require the Service and DOE to involve an equally wide range of potentially affected interests in the planning process. We intend to involve the public and other agencies in the planning process through the following mechanisms.

Federal Planning Advisory Committee

The Service recognizes that the planning process is best conducted by seeking the advice of Tribal, local and regional agencies, and private sector entities associated with the Monument. The Secretary, of the U.S. Department of the Interior, directed the Service to form a Federal Advisory Committee to advise the Service and DOE on the preparation of the CCP. The 13-member Hanford Reach National Monument Federal Planning Advisory Committee (Committee) is chartered to ensure that the CCP considers the land-use visions and perspectives of affected stakeholders, within the framework of the Presidential Proclamation 7319 and policy requirements of the Service and DOE. Committee members represent a cross-section of stakeholders, including state, city, county, tribal, education, scientific, conservation, economic development, outdoor recreation, and “public-at-large” representation. The Service and DOE are committed to serious consideration of all recommendations and advice from the Committee throughout the planning process.

Committee meetings were held June 14 and 15, 2001; September 12 and 13, 2001; October 25, 2001; February 6, 2002; March 19, 2002; May 2, 2002; and May 29, 2002. The Committee is chartered for 2 years; however, the charter can be renewed for another 2-year period to complete the Monument CCP/EIS. Meetings are open to the public, and a public comment period is provided during each meeting. Meeting minutes are recorded and can be accessed at the Department of Energy's Public Reading Room, Mail Stop H2-53, Richland, Washington, 99352. The general electronic mail address is <doe.reading.room@pnl.gov>.

Cooperating Agencies

Agencies with jurisdiction by law or special expertise on environmental issues that should be addressed in the CCP/EIS will be invited to participate in the planning process as a Cooperating Agency, as defined by the Council on Environmental Quality's (CEQ) regulations for implementing the NEPA, 40 CFR 1508.5. Cooperating Agencies will participate in the scoping process to identify significant planning issues and to help develop the EIS purpose and need statement. With direction from the Service, they will also develop pertinent information and prepare environmental analyses based on their expertise and area of jurisdiction. Consistent with applicable Federal law and policy, and our responsibilities as lead agency, we will fully consider the data, environmental analyses, and action alternatives provided by Cooperating Agencies.

Public Involvement

We will use news releases to the local and regional media and other appropriate means to notify the public of opportunities to participate in the planning process. Planning updates will be mailed out to potentially affected interests and to those entities requesting to be on the planning project mailing list. To add individuals or groups to the mailing list, please submit a name and mailing address to the U.S. Fish and Wildlife Service at 3250 Port of Benton Blvd., Richland, Washington 99352, or call (509) 371-1801. Public scoping meetings and workshops will be held at locations and times to be specified. The public will also be provided the opportunity to submit verbal or written comments at regularly scheduled meetings of the Monument Federal Planning Advisory Committee. All Advisory Committee meetings will be announced in the Federal Register and public workshops will be announced through local media.

Involvement of Tribes

In recognition of the sovereign status of American Indian Governments, the Service will establish and maintain government-to-government relationships with American Indian Tribal governments while developing the CCP/EIS. We will consider actions that may affect American Indian cultural or religious interests. To the extent that Indian Tribes have rights pursuant to the Treaties of 1855 (12 Stat. 951), or any other Federal law, those rights will be properly recognized and addressed in the planning and decision-making process. We will observe legislative mandates, agency policies supporting trust responsibilities, and respect American Indian cultural values when planning for the Monument's future. We will take appropriate precautions to ensure that locations of protected sites remain confidential.

Wilderness Review

We are required by Service policy to complete a wilderness review of Service managed lands to determine if any lands are suitable for inclusion in the National Wilderness Preservation System. The wilderness review will be integrated into the CCP/EIS process including identifying areas that meet the minimum wilderness criteria; evaluating the wilderness suitability of alternatives; and documenting recommendations. Wilderness designation requires Congressional legislation. The last step if appropriate, would consist of forwarding any suitable recommendations from the Director of the Service, through the DOI Secretary and the President, to Congress in a Wilderness Study Report. If lands where the DOE retains primary jurisdiction are found suitable for wilderness designation, DOE concurrence would be required prior to any recommendations being forwarded to Congress.

Wild and Scenic River Proposed Designation

In 1996, the DOI issued a Record of Decision recommending “Recreational River” designation, as defined by the National Wild and Scenic Rivers Act of 1968, for the Hanford Reach of the Columbia River and a quarter-mile corridor on either side of the river. A final designation requires Congressional legislation. Congress has not acted upon this recommendation, and the river has been placed into indefinite protection status. Following designation of the Monument, the DOI Secretary transferred oversight responsibility for the Hanford Reach interim protection from the National Park Service to the Fish and Wildlife Service. Until Congress acts on the proposed designation, we will continue to oversee the protection of the proposed “Recreational River” in such a manner as to protect and enhance the values which caused it to be recommended for inclusion in the National Wild and Scenic Rivers System, to the extent that our jurisdiction will allow.

Refuge Roads Program

In October 1998, Congress passed the Transportation Equity Act for the 21st Century, or TEA-21, which established the Refuge Roads Program. TEA-21 requires that all projects funded under the Refuge Roads Program be consistent with agency management plans. The Monument CCP and EIS will address transportation issues to determine current and future transportation needs such as the maintenance or improvement of existing roads, closure and revegetation of existing roads and the construction of new roads, parking lots, comfort stations, signs, or pedestrian trails. Construction of new roads and parking lots can not be funded by the Refuge Roads Program. The plan will explain how the public is going to access Service administered lands and waters within the Monument.

Conclusion

With the publication of this notice, the public is encouraged to help identify potential issues, management actions and concerns; significant problems or impacts; and opportunities or alternatives to resolve them. The public scoping period will continue for 90 days from the date of this notice, however, the Service will accept comments throughout the planning process. The public may provide the Service with written comments at either the mailing address or planning website listed in this notice. Comments may also be provided at scheduled meetings of the Hanford Reach National Monument Federal Advisory Committee. The dates and location of Committee meetings will be published in the Federal Register and announced through local media and other appropriate means. All comments and written materials submitted to the Committee will be documented and provided to the Service for their consideration.

All comments received on environmental documents become part of the official public record and may be released. Requests for such comments will be handled in accordance with the Freedom of Information Act, CEQ and NEPA regulations (40 CFR 1506.6(f)), and other Service and DOE policy and procedures. When requested, the Service generally will provide comment letters with the authors' names and addresses. However, the telephone number of the commenting individual will be withheld in response to such requests to the extent permissible by law. Additionally, public comment letters are not required to contain the author's name, address, or other identifying information.

The environmental review of this project will be conducted in accordance with the requirements of NEPA, as amended (42 U.S.C. 4321 et seq.), NEPA implementing regulations (40 CFR 1500-1508), other appropriate Federal laws and regulations, the National Wildlife Refuge System Improvement Act of 1997, and Service policies and procedures for compliance with those regulations.

Dated: June 4, 2002.
William F. Shake,
Regional Director, Region 1, Portland, Oregon.

[FR Doc. 02-14694 Filed 6-11-02; 8:45 am]

BILLING CODE 4310-55-P